DEPARTMENT OF TRANSPORTATION

Federal Motor Carrier Safety Administration

[Docket No. FMCSA-2006-24932]

Commercial Driver's License (CDL) Standards; Volvo Trucks North America, Inc.'s Exemption Application

AGENCY: Federal Motor Carrier Safety Administration (FMCSA), DOT.

ACTION: Notice of final disposition; granting of application for exemption.

SUMMARY: The FMCSA announces its decision to grant Volvo Trucks North America, Inc.'s (Volvo) application for an exemption for seven of its drivers to enable them to test-drive commercial motor vehicles (CMVs) in the United States without a commercial driver's license (CDL) issued by one of the States. Volvo requested that the exemption cover seven Swedish engineers and technicians who will test drive CMVs for Volvo within the U.S. They stated the exemption is needed to support a Volvo field test to meet future air quality standards, and to test-drive Volvo prototype vehicles to verify results in “real world” environments. Each of these drivers holds a CDL issued in Sweden, but lacks the U.S. residency necessary to obtain a CDL issued by one of the States in the U.S. The FMCSA believes the knowledge and skills testing and training program that drivers must undergo to obtain a Swedish CDL ensures that these drivers will achieve a level of safety that is equivalent to, or greater than, the level of safety achieved without the exemption.

DATES: This decision is effective April 23, 2007. The exemption expires on April 23, 2009.

FOR FURTHER INFORMATION CONTACT: Mr. Thomas Yager, Chief, Driver and Carrier Operations Division, Office of Bus and Truck Standards and Operations, MC-PSD, Federal Motor Carrier Safety Administration, 400 Seventh Street, SW., Washington, DC 20590-0001. Telephone: 202-366-4009. E-mail: MCPSD@dot.gov.

SUPPLEMENTARY INFORMATION:

Background

Under 49 U.S.C. 31315 and 31136(e), FMCSA may grant an exemption from the CDL requirements in 49 CFR 383.23 for a two-year period if it finds “such exemption would likely achieve a level of safety that is equivalent to, or greater than, the level that would be achieved absent such exemption” (49 CFR 381.305 (a)). FMCSA has evaluated Volvo's application on its merits and decided to grant the exemption for seven of Volvo's engineers and technicians for a two-year period.

Volvo Application for an Exemption

Volvo applied for an exemption from the 49 CFR 383.23 requirement that the operator of a CMV obtain a CDL. This section of the Federal Motor Carrier Safety Regulations (FMCSRs) sets forth the standards that States must employ in issuing CDLs to drivers operating in commerce. In the U.S., an individual must be a resident of a State in order to qualify for a CDL.¹ The Volvo drivers-employees for whom this exemption is sought are all citizens and residents of Sweden; therefore, they cannot apply for a CDL in any State of the United States. A copy of the request for exemption from section 383.23 is in the docket identified at the beginning of this notice.

¹ Although 49 CFR 383.23 indicates that these drivers could obtain a Nonresident CDL, few States are currently issuing Nonresident CDLs.

Swedish Drivers

This exemption enables the following drivers to test-drive in the U.S. Volvo CMVs that are assembled, sold or primarily used in the U.S.: Freddy Blixt, Goran Alsen, Kjell Jansson, Johnny Adolfsson, Lars Svensson, Peter Hofsten, and Thorbjorn Ohlund.

Collectively, these drivers form a team of engineers and technicians. Volvo currently employs these drivers in Sweden, and wants them to be able to test-drive Volvo prototype vehicles at its test site and in the vicinity of Phoenix, Arizona, to verify vehicle results in “real world” environments. These drivers would test-drive Volvo CMVs that are assembled, sold or primarily used in the U.S. They are highly trained, experienced CMV operators with valid Swedish-issued CDLs. Because each of the drivers was required to satisfy strict CDL testing standards in Sweden to obtain a CDL, and has extensive training and experience operating CMVs, Volvo believes that the exemption will maintain a level of safety equivalent to the level of safety that would be obtained absent the exemption.

Method to Ensure an Equivalent or Greater Level of Safety

According to Volvo, drivers applying for a Swedish-issued CDL must undergo a training program and pass knowledge and skills tests. Volvo believes the knowledge and skills tests and training program that Swedish drivers undergo to obtain a Swedish CDL ensure the exemption would provide a level of safety that is equivalent to, or greater than, the level of safety obtained by complying with the U.S. requirement for a CDL. Once a driver is granted a Swedish CDL, he or she is allowed to drive any CMV currently allowed on Swedish roads. There are no limits to types or weights of vehicles that may be operated by the drivers.

Therefore, the process for obtaining a Swedish-issued CDL is considered to be comparable to, or as effective as, the requirements of 49 CFR part 383.

Comments

The Agency received one comment in response to its request for public comments (71 FR 45095, August 8, 2006). The individual expressed concern that Volvo was not employing U.S. CDL drivers for these tests, but offered no substantive comments concerning the ability of the drivers to operate CMV's safely in the U.S. The docket number of this matter is referenced at the beginning of this notice.

FMCSA Decision

The FMCSA decision to grant these drivers an exemption from section 383.23 is based on the merits of the application for exemption, the rigorous knowledge and skills testing of Swedish drivers concerning the safe operation of CMVs, and consideration of the comment submitted in response to the public notice.

Terms and Conditions for the Exemption

After considering the comment to the docket and based upon evaluation of the application for an exemption, FMCSA grants Volvo an exemption from the CDL requirements in 49 CFR 383.23 for seven drivers, identified under the “Swedish Drivers” heading above, to test-drive CMVs within the U.S., subject to the following terms and conditions: (1) That these drivers will be subject to drug and alcohol regulations, including testing, as provided in 49 CFR part 382, (2) that these drivers are subject to the same driver disqualification rules under 49 CFR parts 383 and 391 that apply to other CMV drivers in the U.S., (3) that these drivers keep a copy of the exemption on the vehicle at all times, (4) that Volvo notify FMCSA in writing of any accident, as defined in 49 CFR 390.5, involving one of the exempted drivers, and (5) that Volvo notify FMCSA in writing if any driver is convicted of a disqualifying offense described in sections 383.51 or 391.15 of the FMCSRs.

In accordance with 49 U.S.C. 31315 and 31136(e), the exemption will be valid for 2 years unless revoked earlier by the FMCSA. The exemption will be revoked if: (1) The drivers for Volvo fail to comply with the terms and conditions of the exemption; (2) the exemption has resulted in a lower level of safety than was maintained before it was granted; or (3) continuation of the exemption would not be consistent with the goals and objectives of 49 U.S.C. 31315 and 31136.

Issued on: April 13, 2007.
Rose A. McMurray,
Chief Safety Officer Assistant Administrator.

[FR Doc. E7-7638 Filed 4-20-07; 8:45 am]

BILLING CODE 4910-EX-P